DEPARTMENT OF HEALTH AND HUMAN SERVICES

National Institutes of Health

Proposed Collection: Comment Request; NIH Customer/Partner Satisfaction Survey of Modification in procedures for Applications and Awards of Research Project Grants

SUMMARY: Under the provisions of Section 3507(a)(1)(D) of the Paperwork Reduction Act of 1995, the Office of Extramural Research, the National Institutes of Health (NIH) has submitted to the Office of Management and Budget (OMB) a request to review and approve the information collection listed below. The proposed information collection was previously published in the Federal Register on May 23, 2002, page 36202. No public comments were received. The purpose of this notice is to allow and additional 30 days for public comment. The NIH may not conduct or sponsor, and the respondent is not required to respond to, and information that has been extended, revised or implemented on or after October 1, 1995, unless it displays a currently valid OMB control number.

Proposed Collection: Title: NIH Customer/Partner Satisfaction Survey of Modification in procedures for Applications and Awards of Research Project Grants. Type of Information Collection Request: New request. Need and Use of Information Collection: The information collected in these surveys will be used by the Office of Extramural research to evaluate the re-engineering initiatives, including the Modular Grant Application Process and initiatives under the NIH Roadmap, Initiative, intended to facilitate application and award of Federal assistance programs administered by the NIH Modular Application/Grant process has been in effect for two years. At the outset of its implementation, the community was advised that the process would reduce administrative burden by focusing the efforts of investigators, institutional officials, and National Institutes of Health (NIH) staff on the science of the application. The NIH now believes it is an appropriate time to determine if these objectives have been met. Frequency of response: On occasion. Affected Public: Institutional Officials, Principal Investigators (PI's), Peer Reviewers, Program and Grants Management Staff, Institute Budget Officers. The annual reporting burden is as follows: Estimated Number of Respondents: 1,000; Estimated Number of Responses per Respondent: 1; Average Burden Hours Per Response: .334; and Estimated Total Burden Hours Requested: 334. Each year we will repeat the same survey with different respondents. There are no Capital Costs, Operating Costs/and or Maintenance Costs to report.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Direct Comments to OMB: Written comments and/or suggestions regarding the item(s) contained in this notice, especially regarding the estimated public burden and associated response time, should be directed to the: Office of Regulatory Affairs, New Executive Office Building, Room 10235, Washington, DC 20503, Attention Desk Officer for NIH. To request more information on the proposed project or to obtain a copy of the data collection plans and instruments, contact Dr. Anthony Demsey, OD, NIH, Building 1, Room 152, Bethesda, MD 20892-7974, or call non-toll-free number (301) 496-0232, or E-mail your request, including your address to: [Demseya@od.nih.gov]

Comments Due Date: Comments regarding this information collection are best assured of having their full effect if received within 30-days of the date of this publication.

Dated: May 14, 2004.
Charles Mackay,
Chief, Project Clearance Branch, OPERA, OER, National Institutes olf Health.

[FR Doc. 04-11469 Filed 5-20-04; 8:45 am]

BILLING CODE 4140-01-M